DEPARTMENT OF HOUSING AND URBAN DEVELOPMENT

[Docket No. FR-5544-D-01]

Consolidated Delegation of Authority for the Office of Fair Housing and Equal Opportunity

AGENCY: Office of the Secretary, HUD.

ACTION: Notice of delegation of authority.

SUMMARY: In this notice, the Secretary delegates authority pertaining to civil rights statutes, including the Fair Housing Act; Title VI of the Civil Rights Act of 1964; Section 504 of the Rehabilitation Act of 1973, as amended; the Age Discrimination Act of 1975, as amended; and Section 109 of the Housing and Community Development Act of 1974, as amended, to the Assistant Secretary for Fair Housing and Equal Opportunity. This delegation supersedes all prior delegations for the Office of Fair Housing and Equal Opportunity.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone number (202) 402-6322 (this is not a toll-free number). Hearing- and speech-impaired individuals may access this number through TTY by calling the toll-free Federal Relay Service at (800) 877-8339.

SUPPLEMENTARY INFORMATION: This notice consolidates into one document the authority delegated by the Secretary to exercise authority pertaining to civil rights statutes, including the Fair Housing Act, 42 U.S.C. 3601 et seq.; Title VI of the Civil Rights Act of 1964, as amended, 42 U.S.C. 2000d et seq.; Section 504 of the Rehabilitation Act of 1973, as amended, 29 U.S.C. 791 et seq.; the Age Discrimination Act of 1975, as amended, 42 U.S.C. 6101 et seq.; and Section 109 of the Housing and Community Development Act of 1974, as amended, 42 U.S.C. 5301 et seq., to the Assistant Secretary for Fair Housing and Equal Opportunity (FHEO) and supersedes all prior delegations of authority from the Secretary to the Assistant Secretary for FHEO. This consolidated delegation of authority restates existing authority currently delegated by the Secretary to the Assistant Secretary for FHEO and does not provide any new authority.

Section A. Authority

The Secretary hereby delegates to the Assistant Secretary for FHEO authority and responsibility over the Department's civil rights agenda. In carrying out these responsibilities, the Assistant Secretary for FHEO shall have the authority to issue and waive regulations for the civil rights statutes and authorities enforced and/or administered by HUD and shall, among other duties:

1. Exercise the power and authority of the Secretary with respect to the Fair Housing Act, except the powers delegated to the General Counsel and to the Office of Administrative Law Judges;

2. Act as the “responsible Department official” in all matters relating to the carrying out of the requirements under Title VI of the Civil Rights Act of 1964 (42 U.S.C. 2000d) and its implementing regulations (24 CFR part 1), except authority pertaining to tenant selection plans under 24 CFR 1.4(b)(2)(ii);

3. Act as the “responsible civil rights official” and the “reviewing civil rights official,” as provided in HUD's implementing regulations for Section 504 of the Rehabilitation Act of 1973 (24 CFR part 8);

4. Exercise the power and authority of the Secretary with respect to the administration and enforcement of the nondiscrimination provisions contained in Section 109 of the Housing and Community Development Act of 1974 (42 U.S.C. 5309) and act as the “responsible civil rights official” and the “reviewing civil rights official,” as provided in HUD's implementing regulations for Section 109 (24 CFR part 6);

5. Exercise the power and authority of the Secretary with respect to the Age Discrimination Act of 1975 (42 U.S.C. 6101-6107) and its implementing regulations in 24 CFR part 146 (The authority delegated in this notice does not include authority as provided in 24 CFR 146.39, 146.47(a), and 146.49); and

6. Exercise the power and authority to determine whether an applicant for, or participant in, a HUD program is complying with the civil rights related program requirements (CRRPRs). CRRPRs are requirements of HUD programs relating to civil rights contained in laws and regulations pertaining to the particular program, general civil rights statutes, notices of funding availability (NOFAs), Mortgagee Letters, or by other agreement between the Assistant Secretary for FHEO and the Assistant Secretary who has been delegated authority over the particular program.

7. Exercise all power and authority under the Fair Housing provisions of the Federal Housing Enterprises Financial Safety and Soundness Act (FHEFSSA) at 12 U.S.C. 4545 and under the implementing regulations at 24 CFR part 81.

Section B. Authority Excepted

The authority delegated in this document does not include the authority to sue or be sued.

Section C. Authority to Redelegate

The Assistant Secretary for FHEO is authorized to redelegate to employees of HUD any of the power and authority delegated to him/her, including the authority to act as the “responsible Department official,” “responsible civil rights official,” and the “reviewing civil rights official.” The Assistant Secretary for FHEO may also authorize successive redelegations. The Assistant Secretary for FHEO may not redelegate the authority to issue or waive regulations.

Section D. Authority Superseded

This delegation supersedes all previous delegations of authority from the Secretary to the Assistant Secretary for FHEO.

Authority: Section 7(d), Department of Housing and Urban Development Act (42 U.S.C. 3535(d))

Dated: November 16, 2011.
Shaun Donovan,
Secretary.

[FR Doc. 2011-30752 Filed 11-28-11; 8:45 am]

BILLING CODE 4210-67-P